NATIONAL SCIENCE FOUNDATION

Committee on Equal Opportunities in Science and Engineering; Notice of Meeting

In accordance with the Federal Advisory Committee Act (Pub. L. 92-463, as amended), the National Science Foundation announces the following meeting:

Name: Committee on Equal Opportunities in Science and Engineering (CEOSE) Advisory Committee Meeting (#1173).

Dates/Time: February 25, 2016, 1:00 p.m.-5:30 p.m.; February 26, 2016, 8:30 a.m.-3:30 p.m.

Place: National Science Foundation (NSF), 4201 Wilson Boulevard, Arlington, VA 22230.

To help facilitate your entry into the building, please contact Vickie Fung (vfung@nsf.gov) on or prior to February 23, 2016.

Type of Meeting: Open.

Contact Person: Dr. Bernice Anderson, Senior Advisor and CEOSE Executive Secretary, Office of Integrative Activities (OIA), National Science Foundation, 4201 Wilson Boulevard, Arlington, VA 22230. Contact Information: 703-292-8040/banderso@nsf.gov.

Minutes: Meeting minutes and other information may be obtained from the CEOSE Executive Secretary at the above address or the Web site at http://www.nsf.gov/od/oia/activities/ceose/index.jsp.

Purpose of Meeting: To study data, programs, policies, and other information pertinent to the National Science Foundation and to provide advice and recommendations concerning broadening participation in science and engineering.

Agenda:

Opening Statement by the CEOSE Chair

NSF Executive Liaison Report

Updates from the Federal Liaisons

Presentation: NSF INCLUDES (Inclusion across the Nation of Communities of Learners that have been Underrepresented for Diversity in Engineering and Science)

Leadership Discussion: Progress and Success in Broadening Participation in STEM Disciplines

Presentation: Strength of the Broadening Participation Literature and Inventory of NSF Broadening Participation Portfolio

Panel Discussion: Evaluation of NSF BP Programs

Facilitated Session: Framework for a Broadening Participation Accountability System

Work Session: 2015-2016 CEOSE Biennial Report to Congress

Dated: January 21, 2016.
Crystal Robinson,
Committee Management Officer.

[FR Doc. 2016-01485 Filed 1-25-16; 8:45 am]

BILLING CODE 7555-01-P